ENVIRONMENTAL PROTECTION AGENCY

40 CFR Parts 60 and 63

[EPA-HQ-OAR-2002-0083, EPA-HQ-OAR-2002-0085, EPA-HQ-OAR-2003-0051; EPA-HQ-OAR-2025-0162; FRL-12916-01-OAR]

Extension of Deadlines: Standards of Performance for New, Reconstructed, and Modified Sources and Emissions Guidelines for Existing Sources: Oil and Natural Gas Sector Climate Review Interim Final Rule; National Emission Standards for Hazardous Air Pollutants for Integrated Iron and Steel Manufacturing Facilities; National Emission Standards for Hazardous Air Pollutants for Coke Ovens: Pushing, Quenching, and Battery Stacks, and Coke Oven Batteries

AGENCY: Environmental Protection Agency (EPA).

ACTION: Interim final rule; notice of public hearing and extension of public comment period.

SUMMARY: On July 31, 2025, the Environmental Protection Agency (EPA) promulgated amendments to compliance dates within the interim final rule titled Extension of Deadlines in Standards of Performance for New, Reconstructed, and Modified Sources and Emissions Guidelines for Existing Sources: Oil and Natural Gas Sector Climate Review Final Rule, On July 3, 2025, the EPA promulgated amendments to compliance dates in the National Emission Standards for Hazardous Air Pollutants for Integrated Iron and Steel Manufacturing Facilities (Integrated Iron and Steel Manufacturing) through an interim final rule. On July 8, 2025, the EPA promulgated amendments to the compliance dates in the National Emission Standards for Hazardous Air Pollutants for Coke Ovens: Pushing, Quenching, and Battery Stacks, and Coke Oven Batteries (Coke Ovens) through an interim final rule. The EPA received requests to schedule public hearings for each of these interim final rules. Given the public interest in these rules and to further public participation, the EPA is granting these requests and will hold the public hearings via virtual platform. The public hearing for Oil and Natural Gas will be held on September 2, 2025. The public hearing for Integrated Iron and Steel Manufacturing will be held on September 3, 2025. The public hearing for Coke Ovens September 4, 2025. In addition, the EPA is extending the deadlines for written comments listed in the interim final rules to October 1, 2025, for Oil and Natural Gas, October 2, 2025, for Integrated Iron and Steel Manufacturing, and to October 6, 2025, for Coke Ovens. The EPA will consider submitted comments and address them as appropriate. See table 1 below for a summary of the aforementioned:

DATES:

Comments. Comments in response to the July 31, 2025, interim final rule for Oil and Gas must be received by October 1, 2025. Comments in response to the July 3, 2025, interim final rule for Integrated Iron and Steel Manufacturing must be received by October 2, 2025. Comments in response to the July 8, 2025, interim final rule for Coke Ovens must be received by October 6, 2025.

Public Hearings. The EPA will hold virtual public hearings for each rulemaking: Oil and Natural Gas on September 2, 2025, Integrated Iron and Steel Manufacturing on September 3, 2025, and Coke Ovens on September 4, 2025. The EPA will announce additional details on the virtual public hearings at https://www.epa.gov/controlling-air-pollution-oil-and-natural-gas-operations/2025-interim-final-rule-extend-compliance for Oil and Natural Gas; https://www.epa.gov/stationary-sources-air-pollution/integrated-iron-and-steel-manufacturing-national-emission for Integrated Iron and Steel Manufacturing, https://www.epa.gov/stationary-sources-air-pollution/coke-ovens-batteries-national-emissions-standards-hazardous-air; and https://www.epa.gov/stationary-sources-air-pollution/coke-ovens-pushing-quenching-and-battery-stacks-national-emission for Coke Ovens. See the SUPPLEMENTARY INFORMATION section for information on registering for the public hearings.

ADDRESSES: You may send comments in response to the July 31, 2025, interim final rule for Oil and Natural Gas, identified by Docket ID No. EPA-HQ-OAR-2025-0162 (Oil and Natural Gas interim final rule). You may send comments in response to the July 3, 2025, interim final rule for Integrated Iron and Steel Manufacturing, identified by Docket ID No. EPA-HQ-OAR-2002-0083 (Integrated Iron and Steel Manufacturing source category). You may send comments in response to the July 8, 2025, interim final rule for Coke Ovens, identified by Docket ID Nos. EPA-HQ-OAR-2002-0085 (Coke Ovens: Pushing, Quenching, and Battery Stacks source category) and EPA-HQ-OAR-2003-0051 (Coke Oven Batteries source category) by any of the following methods:

• Federal eRulemaking Portal: https://www.regulations.gov (our preferred method). Follow the online instructions for submitting comments.

• Email: a-and-r-docket@epa.gov. Include respective Docket ID Nos. EPA-HQ-OAR-2025-0162 (Oil and Natural Gas), EPA-HQ-OAR-2002-0083 (Integrated Iron and Steel), EPA-HQ-OAR-2002-0085 (Coke Ovens: Pushing, Quenching, and Battery Stacks source category), or EPA-HQ-OAR-2003-0051 (Coke Ovens: Batteries source category) in the subject line of the message.

• Fax: (202) 566-9744. Attention Docket ID Nos. EPA-HQ-OAR-2025-0162 (Oil and Natural Gas), EPA-HQ-OAR-2002-0083 (Integrated Iron and Steel), EPA-HQ-OAR-2002-0085 (Coke Ovens: Pushing, Quenching, and Battery Stacks source category), or EPA-HQ-OAR-2003-0051 (Coke Ovens: Batteries source category).

• Mail: U.S. Environmental Protection Agency, EPA Docket Center, Docket ID Nos. EPA-HQ-OAR-2025-0162 (Oil and Natural Gas), EPA-HQ-OAR-2002-0083 (Integrated Iron and Steel), EPA-HQ-OAR-2002-0085 (Coke Ovens: Pushing, Quenching, and Battery Stacks source category), EPA-HQ-OAR-2003-0051 (Coke Ovens Batteries source category), Mail Code 28221T, 1200 Pennsylvania Avenue NW, Washington, DC 20460.

• Hand/Courier Delivery: EPA Docket Center, WJC West Building, Room 3334, 1301 Constitution Avenue NW, Washington, DC 20004. The Docket Center's hours of operation are 8:30 a.m. to 4:30 p.m., Monday through Friday (except Federal holidays).

Instructions: All submissions received must include one of the Docket ID Nos. listed in this document. Comments received may be posted without change to https://www.regulations.gov/, including any personal information provided. For additional information, see the SUPPLEMENTARY INFORMATION section of this document.

FOR FURTHER INFORMATION CONTACT: For questions about these public hearings, contact the public hearing team at (888) 372-8699 or SPPDpublichearing@epa.gov.

SUPPLEMENTARY INFORMATION:

Table 1—Summary of Docket ID Nos., Public Hearing Dates, and Comment Period Closing Dates
Rule | Docket ID No. | Public hearing date | Comment period closing date
Oil and Natural Gas | EPA-HQ-OAR-2025-0162 | September 2, 2025 | October 1, 2025.
Integrated Iron and Steel Manufacturing | EPA-HQ-OAR-2002-0083 | September 3, 2025 | October 2, 2025.
Coke Ovens | EPA-HQ-OAR-2002-0085; EPA-HQ-OAR-2003-0051 | September 4, 2025 | October 6, 2025.

Participation in virtual public hearing. The public hearings will be held via virtual platform on September 2, 2025, for Oil and Natural Gas; September 3, 2025, for Integrated Iron and Steel Manufacturing; and on September 4, 2025, for Coke Ovens. The EPA will announce additional details on the virtual public hearings at the EPA website for the respective interim final rule. The EPA may close a session 15 minutes after the last pre-registered speaker has testified if there are no additional speakers.

The EPA will begin pre-registering speakers for each hearing no later than 1 business day following publication of this document in the Federal Register. The EPA will accept registrations on an individual basis. To register to speak at any virtual hearing, please use the online registration form available at each of the interim final rule websites mentioned above, or contact the public hearing team at (888) 372-8699 or by email at SPPDpublichearing@epa.gov. The last day to pre-register to speak at a hearing will be 3 business days before the public hearing. Prior to the hearings, the EPA will post a general agenda that will list pre-registered speakers at each of the interim final rule websites mentioned above.

The EPA will make every effort to follow the schedule as closely as possible on the days of the hearings; however, please plan for the hearings to run either ahead of schedule or behind schedule.

Each commenter will have 4 minutes to provide oral testimony. The EPA encourages commenters to submit a copy of their oral testimony as written comments electronically to the rulemaking docket.

The EPA may ask clarifying questions during the oral presentations but will not respond to the presentations at that time. Written statements and supporting information submitted during the comment period will be considered with the same weight as oral testimony and supporting information presented at the public hearings.

Please note that any updates made to any aspect of the hearings will be posted online at each of the interim final rule websites mentioned above. While the EPA expects the hearings to go forward as set forth above, please monitor our websites or contact the public hearing team at (888) 372-8699 or by email at SPPDpublichearing@epa.gov to determine if there are any updates. The EPA does not intend to publish a notice in the Federal Register announcing updates.

If you require a special accommodation such as audio description, please pre-register for the hearing with the public hearing team and describe your needs by 8 business days before each public hearing. The EPA may not be able to arrange accommodations without advance notice.

Docket. The EPA has established separate dockets for each of these rulemakings under Docket ID Nos. EPA-HQ-OAR-2025-0162 (Oil and Natural Gas), EPA-HQ-OAR-2002-0083 (Integrated Iron and Steel, EPA-HQ-OAR-2002-0085 (Coke Ovens: Pushing, Quenching, and Battery Stacks source category), EPA-HQ-OAR-2003-0051 (Coke Ovens Batteries source category). All documents in the docket are listed in https://www.regulations.gov/. Although listed, some information is not publicly available, e.g., Confidential Business Information (CBI) or other information whose disclosure is restricted by statute. Certain other material, such as copyrighted material, is not placed on the internet and will be publicly available only in hard copy. Except for such material, publicly available docket materials are available electronically in Regulations.gov.

Instructions. Direct your comments to Docket ID Nos. EPA-HQ-OAR-2025-0162 (Oil and Natural Gas), EPA-HQ-OAR-2002-0083 (Integrated Iron and Steel), EPA-HQ-OAR-2002-0085 (Coke Ovens: Pushing, Quenching, and Battery Stacks source category), EPA-HQ-OAR-2003-0051 (Coke Ovens Batteries source category), or as appropriate. The EPA's policy is that all comments received will be included in the public docket without change and may be made available online at https://www.regulations.gov/, including any personal information provided, unless the comment includes information claimed to be CBI or other information whose disclosure is restricted by statute. Do not submit electronically to https://www.regulations.gov/ any information that you consider to be CBI or other information whose disclosure is restricted by statute. This type of information should be submitted as discussed in the Submitting CBI section of this document.

The EPA may publish any comment received to its public docket. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

The https://www.regulations.gov/ website allows you to submit your comment anonymously, which means the EPA will not know your identity or contact information unless you provide it in the body of your comment. If you send an email comment directly to the EPA without going through https://www.regulations.gov/, your email address will be automatically captured and included as part of the comment that is placed in the public docket and made available on the internet. If you submit an electronic comment, the EPA recommends that you include your name and other contact information in the body of your comment and with any digital storage media you submit. If the EPA cannot read your comment due to technical difficulties and cannot contact you for clarification, the EPA may not be able to consider your comment. Electronic files should not include special characters or any form of encryption and should be free of any defects or viruses. For additional information about the EPA's public docket, visit the EPA Docket Center homepage at https://www.epa.gov/dockets.

Submitting CBI. Do not submit information containing CBI to the EPA through https://www.regulations.gov/. Clearly mark the part or all the information that you claim to be CBI. For CBI information on any digital storage media that you mail to the EPA, note the Docket ID No., mark the outside of the digital storage media as CBI, and identify electronically within the digital storage media the specific information that is claimed as CBI. In addition to one complete version of the comments that includes information claimed as CBI, you must submit a copy of the comments that does not contain the information claimed as CBI directly to the public docket through the procedures outlined in the Instructions section of this document. If you submit any digital storage media that does not contain CBI, mark the outside of the digital storage media clearly that it does not contain CBI and note the Docket ID No. Information not marked as CBI will be included in the public docket and the EPA's electronic public docket without prior notice. Information marked as CBI will not be disclosed except in accordance with procedures set forth in 40 Code of Federal Regulations (CFR) part 2.

Our preferred method to receive CBI is for it to be transmitted electronically using email attachments, File Transfer Protocol (FTP), or other online file sharing services (e.g., Dropbox, OneDrive, Google Drive). Electronic submissions must be transmitted directly to the Office of Air Quality Planning and Standards (OAQPS) CBI Office at the email address oaqps_cbi@epa.gov and, as described above, should include clear CBI markings and note the Docket ID No. If assistance is needed with submitting large electronic files that exceed the file size limit for email attachments, or if you do not have your own file sharing service, please email oaqps_cbi@epa.gov to request a file transfer link. If sending CBI information through the U.S. Postal Service, please send it to the following address: U.S. EPA, Attn: OAQPS Document Control Officer, Mail Drop: C404-02, 109 T.W. Alexander Drive, P.O. Box 12055, Research Triangle Park, North Carolina 27711, Attention Docket ID Nos. EPA-HQ-OAR-2025-0162 (Oil and Natural Gas), EPA-HQ-OAR-2002-0083 (Integrated Iron and Steel), EPA-HQ-OAR-2002-0085 (Coke Ovens: Pushing, Quenching, and Battery Stacks source category), EPA-HQ-OAR-2003-0051 (Coke Ovens Batteries source category). The mailed CBI material should be double wrapped and clearly marked. Any CBI markings should not show through the outer envelope.

David Cozzie,
Acting Director of Sector Policies Programs Division.

[FR Doc. 2025-15614 Filed 8-14-25; 8:45 am]

BILLING CODE 6560-50-P